DEPARTMENT OF HEALTH AND HUMAN SERVICES

Centers for Disease Control and Prevention

[30DAY-10-03]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 498-1210. Send written comments to CDC, Desk Officer, Human Resources and Housing Branch, New Executive Office Building, Room 10235, Washington, DC 20503. Written comments should be received within 30 days of this notice.

Proposed Project: State Influenza Coordinators Survey—New—National Center for Infectious Diseases (NCID), Centers for Disease Control and Prevention (CDC). Influenza epidemics in the United States are associated with approximately 20,000 deaths and 114,000 hospitalizations each year; influenza pandemics are responsible for dramatic increases in morbidity and mortality worldwide. In order to detect “novel” viruses, changes in circulating strains, and the clinical impact of circulating strains, surveillance systems must present a broad picture of influenza activity. Data on morbidity and mortality are essential and must be reported in a timely manner.

Influenza Surveillance at CDC consists of four components: U.S. Sentinel Physician Network, State and Territorial Epidemiologist Reports, 122 Cities Mortality Report, and the WHO/NRVESS Laboratory Reports. Each of the 50 states as well as the District of Columbia participate in at least one of the CDC's four surveillance components, however, additional surveillance activities within the states are currently unclear. In order to develop or enhance current Influenza surveillance activities at CDC and prepare for the future, including possible pandemics, it is crucial that we are aware of any existing surveillance systems at the state level. We are proposing a survey of state health departments, specifically each state's Influenza Surveillance Coordinator in order to ascertain the nature of flu surveillance in his/her state as well as how prepared the state is for things to come. The data collected will be used to improve and/or enhance national surveillance efforts.

The questionnaire that will be used focuses on state surveillance systems as well as pandemic preparedness. Questions will be asked regarding current surveillance including: Sentinel Physicians Systems, Nursing home surveillance, and School Absenteeism. The annual burden hours are estimated to be 27.

Respondents | Number of respondents | Number of responses/respondent | Average burden/response (in hours)
State health departments | 53 | 1 | 30/60

Dated: December 9, 2002.
Nancy E. Cheal,
Acting Associate Director for Policy, Planning and Evaluation, Centers for Disease Control and Prevention.

[FR Doc. 02-31418 Filed 12-12-02; 8:45 am]

BILLING CODE 4163-18-P